DEPARTMENT OF COMMERCE

National Oceanic and Atmospheric Administration

DEPARTMENT OF THE INTERIOR

Fish and Wildlife Service

[I.D. 060503A]

Notice of Intent To Conduct Public Scoping and Prepare an Environmental Impact Statement for the Snohomish County, Washington, Habitat Conservation Plan

AGENCY: National Marine Fisheries Service (NMFS), National Oceanic and Atmospheric Administration (NOAA), Commerce; U.S. Fish and Wildlife Service (USFWS), Interior

ACTION: Notice of Intent

SUMMARY: Pursuant to the National Environmental Policy Act, this notice advises the public that the USFWS and NMFS (collectively, the Services) intend to gather necessary information to prepare an environmental impact statement (EIS) related to the proposed approval of a Habitat Conservation Plan (HCP) and issuance of two incidental take permits (Permits) (one from NMFS and one from USFWS) to take endangered and threatened species in accordance with the Endangered Species Act of 1973, as amended (ESA). The Permit applicant is Snohomish County, Washington, Department of Public Works (Department). The application is related to activities associated with the development and maintenance of transportation and drainage infrastructure, including substantial capital projects, in the North Lake Washington Watershed, in southwest Snohomish County. The Department intends to apply for the Permits for Puget Sound chinook salmon (Oncorhynchus tshawytscha), bull trout (Salvelinus confluentus), and certain other federally listed species. To address potential future listings, the Department also plans to seek coverage for approximately 14 unlisted fish and wildlife species under specific provisions of the Permits. In accordance with the ESA, the Department will prepare an HCP that includes measures to minimize and mitigate any take that could occur incidental to the proposed Permit activities (development and maintenance of transportation and drainage infrastructure).

The Services are furnishing this notice: (1) to advise other agencies and the public of the Services' intent to prepare an environmental review document, and (2) to obtain suggestions and information on the scope of issues to include in the environmental review.

DATES: Written comments from all interested parties must be received on or before August 13, 2003.

ADDRESSES: Comments and requests for information should be sent to Jo Ellen Henry, Fish and Wildlife Biologist, USFWS, 510 Desmond Drive, S.E., Suite 102, Lacey, Washington 98503-1263, facsimile (360) 753-9518; or Chris Clemons, Fisheries Biologist, Habitat Conservation Division, NMFS, 503 Desmond Way, Suite 103, Lacey, WA 98503, facsimile (206) 526-6736.

FOR FURTHER INFORMATION CONTACT: Jo Ellen Henry, USFWS, at telephone (360) 753-7766; or Chris Clemons, NMFS, at telephone (360) 753-9595.

SUPPLEMENTARY INFORMATION:

Comments

Written comments and suggestions are invited from all interested parties to ensure that the full range of issues related to this proposed action are identified. Comments will not be accepted via e-mail or the internet. All comments and materials received, including names and addresses, will become part of the administrative record and may be released to the public. Comments and materials received will be available for public inspection, by appointment, during normal business hours at the above address.

Background

The Lake Washington Watershed (Watershed) encompasses approximately 670 square miles [1,735 square Kilometers (Square Km)]. The Watershed boundary extends from southwest Snohomish County to south King County. The majority of the watershed (approximately 85 percent) lies within the boundaries of King County. The probable area covered by the proposed HCP lies within Snohomish County's portion of the watershed. Three sub-basins, North Creek, Swamp Creek, and Little Bear Creek, will be the focus of the HCP's covered area. While small segments are situated within King County, 95 percent of these sub-basins are within southwest Snohomish County (approximately 69 square miles (178 Square Km). The largest of these, North Creek, is nearly 29 square miles (75 Square Km), with approximately 27 square miles (69 Square Km) located within Snohomish County (94 percent of the sub-basin). The second largest, Swamp Creek, is nearly 25 square miles (64 Square Km) in size, with approximately 23 square miles (59 Square Km) located within Snohomish County (92 percent of the sub-basin). The smallest of the targeted sub-basins, Little Bear Creek, is just over 15 square miles (38 Square Km), and has approximately 13 square miles (33 Square Km) located within Snohomish County (87 percent of the sub-basin).

Snohomish County owns, and the Department maintains, an extensive system of roadways and drainage facilities within these basins. Departmentally maintained rights-of-way approach nearly 315 miles (506 meters) in total length. The majority of this roadway (88 percent) lies within a state-designated Urban Growth Area (UGA), which is zoned for high-density residential and industrial development. A small portion of the road system and its attendant infrastructure is located outside of the UGA, primarily within the Little Bear Creek sub-basin.

Presently, over 1.4 million people reside in the Greater Lake Washington Watershed. The population growth trend in the Puget Sound region demands an increasingly complex roadway and drainage facilities infrastructure. Snohomish County recognizes the need to maintain and upgrade its transportation system to meet this demand, satisfy Washington State Growth Management Act requirements, and further improve transportation quality and safety. These proposed transportation system improvements include a series of substantial capital projects that would likely require construction near water bodies, habitat for Puget Sound chinook salmon, bull trout, and other listed and unlisted species. In addition, the Department has identified specific drainage improvement needs in the affected basins. These drainage improvements would also involve a series of substantial capital projects that are likely to affect water bodies, habitat for Puget Sound chinook salmon, bull trout, and other listed and unlisted species. The Services and Department agree that project-by-project ESA compliance decreases project certainty, increases expense, and can result in a fragmented and uncoordinated approach to species conservation. The Department's proposal is to develop an HCP, which will provide long-term assurances for constructing, upgrading, and maintaining Snohomish County's transportation and drainage systems while ensuring that the County's activities are conducted in a way that meets the conservation needs of 3 listed species and 15 unlisted fish and wildlife species (including Dolly Varden, Salvelinus malma, proposed for listing under the ESA's similarity of appearance provisions, and Coho salmon, Oncorhynchus kisutch, a candidate for listing under the ESA) with specific provisions in the Permits should these species be listed in the future.

Snohomish County's transportation and drainage construction and maintenance activities can harm listed species. ESA section 10 provides for the issuance of incidental take permits to non-Federal entities whose otherwise lawful activities cause the take of endangered and threatened species. The issuance criteria for an incidental take permit require that the take is incidental to otherwise lawful activities, and will not appreciably reduce the likelihood of the survival and recovery of the species in the wild. In addition, the applicant must prepare and submit to the Services for approval an HCP containing a strategy for minimizing and mitigating the effects of any incidental take to the maximum extent practicable. The applicant must also ensure that adequate funding will be provided for implementation of the HCP, and meet any other requirements that the Secretaries of Commerce and Interior might require.

Snohomish County has initiated discussions with the Services regarding the possibility of receiving permits that would cover take of listed species incidental to the following otherwise lawful activities:

(1) Construction of new transportation facilities (roads and bridges, drainage and stormwater facilities, mitigation sites);

(2) Maintenance of existing transportation facilities (roads and bridges, drainage and stormwater facilities);

(3) Construction of new drainage infrastructure and facilities (drainage and stormwater facilities, culverts, mitigation sites);

(4) Maintenance of existing drainage facilities (drainage and stormwater facilities, culverts, mitigation sites); and

(5) Construction and maintenance of bank stabilization projects associated with county road rights-of-way (bank hardening).

The Snohomish County Public Works is currently considering the following types of conservation measures for the proposed HCP. These may include, but are not limited to:

(1) A program of land conservation for the preservation, enhancement, and/or creation of suitable habitats for species addressed in the HCP to mitigate impacts associated with proposed construction and maintenance activities;

(2) Development and implementation of construction and maintenance best management practices to avoid or minimize construction and maintenance impacts on species addressed in the HCP;

(3) Commitment to continuing certain activities that are currently voluntary, targeted at reducing anthropogenic caused ecological conditions that limit the natural production of salmonids in the HCP Area (may include, but is not limited to, the following types of activities: impervious surface removal, stormwater retrofitting, and fish passage barrier removal);

(4) Implementation of an adaptive management program with ongoing monitoring and adjustment of proposed covered activities; and

(5) Continuing landowner outreach, education, and Water Resource Inventory Area planning participation.

The Services will conduct an environmental review of the issuance of the proposed requested Permits and proposed HCP by preparing an EIS. The EIS will analyze the proposed action (issuing the requested Permits) and alternatives to the proposed action, by comparing the impacts of the action on the human and natural environment to those that would occur under each of a range of reasonable alternatives, including a No Action alternative. The Services will use the scoping process to develop alternatives to the proposed action. In addition to considering potential impacts on listed and other covered species and their habitats, the EIS could include information on potential impacts resulting from alternatives on other components of the human environment. Other components could include air quality, water quality and quantity, geology and soils, cultural resources, social resources, economic resources, and environmental justice.

The environmental review of this project will be conducted in accordance with the requirements of the National Environmental Policy Act of 1969, as amended (42 USC 4321 et seq.), National Environmental Policy Act Regulations (40 CFR 1500-1508), other appropriate Federal laws and regulations, and policies and procedures of the Services for compliance with those regulations.

Date: June 12, 2003.
William F. Shake,
Acting, Deputy Regional Director, U.S. Fish and Wildlife Service, Region 1.
Date: July 7, 2003.
Phil Williams,
Chief, Endangered Species Division Office of Protected Resources, National Marine Fisheries Service.

[FR Doc. 03-17750 Filed 7-11-03; 8:45 am]

BILLING CODE 3510-22-S